DEPARTMENT OF JUSTICE

[OMB Number 1125-0005]

Agency Information Collection Activities; Proposed eCollection eComments Requested; Revision of a Previously Approved Collection; Notice of Entry of Appearance as Attorney or Representative Before the Board of Immigration Appeals

AGENCY: Executive Office for Immigration Review, Department of Justice.

ACTION: 60-Day notice.

SUMMARY: The Executive Office for Immigration Review (EOIR), Department of Justice (DOJ), will be submitting the following information collection request to the Office of Management and Budget (OMB) for review and approval in accordance with the Paperwork Reduction Act of 1995.

DATES: Comments are encouraged and will be accepted for 60 days until October 10, 2023.

FOR FURTHER INFORMATION CONTACT:

If you have additional comments especially on the estimated public burden or associated response time, suggestions, or need a copy of the proposed information collection instrument with instructions or additional information, please contact Lauren Alder Reid, Assistant Director, Office of Policy, Executive Office for Immigration Review, 5107 Leesburg Pike, Suite 2500, Falls Church, VA 22041, telephone: (703) 305-0289 or lauren.alder.reid@usdoj.gov.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: This information collection is necessary to allow a practitioner of record to notify the Board that he or she is representing a party before the Board. EOIR is updating the information regarding how to obtain automated case information. In addition, EOIR is clarifying that a practitioner of record is authorized to file a notice of entry of appearance before the Board of Immigration Appeals, as distinguished from the entry of a limited appearance.

Overview of This Information Collection

1. Type of Information Collection: Revision of a previously approved collection.

2. The Title of the Form/Collection: Notice of Entry of Appearance as Attorney or Representative Before the Board of Immigration Appeals.

3. The agency form number, if any, and the applicable component of the Department sponsoring the collection: EOIR-27. The sponsoring business component: EOIR.

4. Affected public who will be asked or required to respond, as well as the obligation to respond: Affected Public: Individuals or households. The obligation to respond is mandatory per 8 CFR 1003.38(g) and 8 CFR 1003.2(g)(1).

5. An estimate of the total number of respondents and the amount of time estimated for an average respondent to respond: It is estimated that 42,126 respondents will complete each form within approximately 6 minutes.

6. An estimate of the total annual burden (in hours) associated with the collection: 4,213 annual burden hours.

7. An estimate of the total annual cost burden associated with the collection: $331,732.

Activity | Number of respondents | Frequency | Total annual responses | Time per response | Total annual burden (hours)
EOIR-27 | 42,126 | 1/annually | 42,126 | 6 min | 4,213

If additional information is required contact: Darwin Arceo, Department Clearance Officer, United States Department of Justice, Justice Management Division, Policy and Planning Staff, Two Constitution Square, 145 N Street NE, 4W-218, Washington, DC.

Dated: August 4, 2023.
Darwin Arceo,
Department Clearance Officer for PRA, U.S. Department of Justice.

[FR Doc. 2023-17028 Filed 8-8-23; 8:45 am]

BILLING CODE 4410-30-P